AGENCY FOR INTERNATIONAL DEVELOPMENT

Notice of Request for Public Comment

AGENCY: United States Agency for International Development (USAID).

SUMMARY: The United States Agency for International Development (USAID) seeks Office of Management and Budget (OMB) approval for the information collection described below. In accordance with the Paperwork Reduction Act of 1995, USAID requests public comment on this collection from all interested individuals and organizations. The purpose of this notice is to allow 60 days for public comment preceding submission of the collection to OMB.

DATES: Send comments on or before November 26, 2021.

ADDRESSES: You may submit comments by any of the following methods:

1. Email: jshahan@usaid.gov.

2. Web: Through the Federal eRulemaking Portal at www.regulations.gov by following the instructions for submitting comments.

FOR FURTHER INFORMATION CONTACT: Kristen Rancourt, USAID Bureau for Management, Office of Management, Policy, Budget and Performance, Policy Division (M/MPBP/POL), telephone (202) 921-5119, or via email at krancourt@usaid.gov.

SUPPLEMENTARY INFORMATION:

I. Abstract

The Exchange Visitor (EV) Visa Compliance program is a central management function that enables USAID to comply with statutory and regulatory requirements associated with sponsoring foreign nationals who enter the United States (U.S.) on a J-1 visa. This function aligns with the U.S. National Security Strategy, and the Foreign Assistance Act of 1961 authorizing the U.S. government to conduct educational and cultural exchanges for the purpose of strengthening the capacity and commitment of host-country nationals to address development challenges in their respective countries. These educational and cultural exchanges are defined by section 102 of the Mutual Educational and Cultural Exchange Act of 1961 (the “Act”), 22 U.S.C. 2452. The regulations set forth in the Code of Federal Regulations (CFR) Title 22, Part 62 “Exchange Visitor Program” implement the Act, and appoints USAID as a designated sponsoring organization. Program sponsors are responsible for selecting, supporting and monitoring participants during their entire program stay.

Section 112 of the Act, as amended, codified the establishment of the Interagency Working Group (IAWG) on U.S. Government-Sponsored International Exchanges and Training, and mandated the IAWG with managing a “coordinated strategy for all U.S. Government-sponsored international exchange and training programs,” with a primary purpose and responsibility “to collect, analyze, and report data provided by all U.S. Government departments and agencies conducting international exchanges and training programs.” As a statutory member of the IAWG, USAID participates in the annual mandated request for data reporting on USAID international exchanges and training programs and participants.

The Training and Exchanges Automated Management System (TEAMS) is USAID's official data management system and the entry point for data for U.S. exchange visitor programs. TEAMS incorporates processes to manage and support EV's who will come to the U.S. on a USAID J-1 visa. TEAMS manages data by interfacing with the Department of Homeland Security's (DHS) Student and Exchange Visitor Information System (SEVIS), the system that DHS uses to maintain and monitor participants in U.S. programs. All EV's must be registered in SEVIS. USAID utilizes SEVIS to report on EV programs, and to issue Certificates of Eligibility for Exchange Visitor Status (Form DS-2019). The Automated Directive System (ADS) Chapter 252—Visa Compliance for Exchange Visitors, requires Agency operating units (OUs) or their Implementing Partners, in accordance with their awards, to enter data into TEAMS relevant to U.S. visits by sponsored foreign nationals who are recipients of USAID development assistance. TEAMS replaces the Training Results and Information Network (TraiNet) and Visa Compliance System (VCS). TEAMS combines the functionality of TraiNet and VCS into one system.

The Bureau for Management, Office of Management Policy, Budget and Performance (M/MPBP) relies on TEAMS data for the following uses: (1) EV program management; (2) batching USAID data to SEVIS; and, (3) annual mandated reporting to IAWG. USAID OUs use TEAMS data of U.S.-based EVs, and in-country and third-country based training participants, for internal reporting and portfolio management.

II. Method of Collection

Electronic.

III. Data

Title of Information Collection: Training and Exchanges Automated Management System (TEAMS).

Type of Review: New Information Collection.

OMB Number: Not assigned.

Affected Public who will be asked or required to respond: Exchange Visitor's as defined in ADS Chapter 252—Visa Compliance for Exchange Visitors.

Estimated Total Number of Respondents per Year: Approximately 1,500-2,000 annually based on current year estimates.

Estimated Total Annual Burden: 375-500 hours (1,500-2000 participants × 15 minutes per participant).

IV. Request for Comments

All comments must be in writing and submitted through the methods specified in the Addresses section above. All submissions must include the information collection title. Please include your name, title, organization, postal address telephone number, and email address in the text of the message. Please note that comments submitted in response to this Notice are public record. We recommend that you do not submit detailed personal information, confidential business Information, or any information that is otherwise protected from disclosure by statute.

USAID will only address comments that explain why the proposed collection would be inappropriate, ineffective, or unacceptable without a change. Comments that are insubstantial or outside the scope of the notice of request for public comment may not be considered.

Susan C. Radford,
Management and Program Analyst, Bureau for Management, Office of Management Policy, Budget, and Performance, U.S. Agency for International Development.

[FR Doc. 2021-20900 Filed 9-24-21; 8:45 am]

BILLING CODE P